ENVIRONMENTAL PROTECTION AGENCY

[FRL-9939-26-OA]

Notification of a Public Teleconference of the Farm, Ranch, and Rural Community Federal Advisory Committee (FRRCC)

AGENCY: Environmental Protection Agency (EPA).

ACTION: Notice.

SUMMARY: Under the Federal Advisory Committee Act, Public Law 92-463, the Environmental Protection Agency (EPA) gives notice of a teleconference of the Farm, Ranch, and Rural Communities Committee (FRRCC). This teleconference is open to the public. Members of the public are encouraged to provide comments relevant to the specific issues being considered by the FRRCC.

DATES: A public teleconference will be held on December 11, 2015, from 2:00 p.m. to 3:30 p.m. Eastern Standard Time.

Location: The teleconference will be conducted by telephone only.

FOR FURTHER INFORMATION CONTACT: Donna Perla, Designated Federal Officer, U.S. Environmental Protection Agency, Office of the Administrator (MC1101A), 1200 Pennsylvania Avenue NW., Washington, DC 20460; via email at perla.donna@epa.gov, or via telephone at 202-564-0184. General information concerning the EPA FRRCC can be found at http://www2.epa.gov/faca/frrcc.

SUPPLEMENTARY INFORMATION:

Background: EPA established the Farm, Ranch, and Rural Communities Committee (FRRCC) in 2008 to provide independent policy advice, information, and recommendations to the Administrator on a range of environmental issues and policies that are of importance to agriculture and rural communities.

The purpose of this teleconference is to discuss progress and next steps for actions that were identified as a result of the October 22, 2015 FRRCC meeting, open to the public, in Denver, CO, (see Federal Register Notice). Discussion will include progress of the Soil Health and the Outreach and Engagement Working Groups, and identification of additional topics that members want to advise the Administrator on.

Procedures for Providing Public Input: The meeting is open to the public. Members of the public wishing to participate or to make oral comments in the teleconference should contact Donna Perla at perla.donna@epa.gov or (202) 564-0184 by December 4, 2015.

Accessibility: For information on access to this teleconference or services for individuals with disabilities, please contact Donna Perla at 202-564-0184 or perla.donna@epa.gov. To request special accommodations, please contact Donna Perla, preferably at least four working days prior to the teleconference, to allow sufficient time to process your request.

Dated: November 17, 2015.
Donna Perla,
Designated Federal Officer.

[FR Doc. 2015-30096 Filed 11-24-15; 8:45 am]

BILLING CODE 6560-50-P